DEPARTMENT OF ENERGY

Federal Energy Regulatory Commission

[Project No. 12757-008; Project No. 12758-008]

BOST4 Hydroelectric LLC, BOST5 Hydroelectric LLC; Notice of Intent To Prepare an Environmental Assessment

On August 16, 2024, BOST4 Hydroelectric LLC (BOST4 or licensee) filed an application for a non-capacity amendment for the Red River Lock & Dam #4 Project No. 12757 and on May 17, 2024, BOST5 Hydroelectric LLC (BOST5 or licensee) filed a similar amendment for the Red River Lock & Dam #5 Project No. 12758. The projects are located on the Red River in Red River and Bossier parishes, Louisiana. The projects occupy Federal lands administered by the U.S. Army Corps of Engineers.

At Lock & Dam #4, the unconstructed projects would be redesigned from one turbine that would produce 28.1 megawatts (MW) generating capacity to five smaller turbine units that would still have the same generating capacity of 28.1 MW. The powerhouse would be redesigned to hold the five Kaplan bulb turbine-generator units, and would be approximately 170-feet-wide, 135-feet-high, and 180-feet-long. The headrace channel and tailrace channels would also be redesigned from what was originally licensed. A Notice of Application Accepted for Filing and Soliciting Comments, Motions to Intervene, and Protest was issued on September 12, 2024.

At Lock & Dam #5, the unconstructed project would be similarly redesigned with five Kaplan bulb turbine-generator units, instead of one 28.1-MW unit. The powerhouse footprint would be approximately 204-feet-long by 153-feet-wide. The location of the recreation facilities, that the licensee is required to reconstruct, would be relocated from downstream to upstream of the dam. A Notice of Application Accepted for Filing and Soliciting Comments, Motions to Intervene, and Protest was issued on September 30, 2024.

This notice identifies Commission staff's intention to prepare an environmental assessment (EA) analyzing the proposed action. The planned schedule for the completion of the EA is July 8, 2025.¹ Revisions to the schedule may be made as appropriate. The EA will be issued and made available for review by all interested parties. All comments filed on the EA will be reviewed by staff and considered in the Commission's final decision on the proceeding.

¹ The unique identification number for documents relating to this environmental review is EAXX-019-20-000-1744018995.

The Commission's Office of Public Participation (OPP) supports meaningful public engagement and participation in Commission proceedings. OPP can help members of the public, including landowners, environmental justice communities, Tribal members, and others to access publicly available information and navigate Commission processes. For public inquiries and assistance with making filings such as interventions, comments, or requests for rehearing, the public is encouraged to contact OPP at (202) 502-6595 or OPP@ferc.gov.

Any questions regarding this notice may be directed to Rebecca Martin at 202-502-6012 or Rebecca.martin@ferc.gov.

Dated: April 8, 2025.
Debbie-Anne A. Reese,
Secretary.

[FR Doc. 2025-06306 Filed 4-11-25; 8:45 am]

BILLING CODE 6717-01-P